DEPARTMENT OF THE INTERIOR

National Park Service

[2280-665]

National Register of Historic Places; Notification of Pending Nominations and Related Actions

Nominations for the following properties being considered for listing or related actions in the National Register were received by the National Park Service before November 27, 2010. Pursuant to sections 60.13 or 60.15 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 6, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Fresno County

Ben Gefvert Ranch Historic District, 4770 W Whites Bridge Rd, Fresno, 10001117

Los Angeles County

Bricker Building, The, 1671 Northern Western Ave, Los Angeles, 10001119

Emery, Katherine, Estate, 1155 Oak Grove Ave, San Marino, 10001118

Riverside County

O'Donnell, Thomas, Residence, 447 Alejo Rd, Palm Springs, 10001123

MASSACHUSETTS

Norfolk County

Front Street Historic District, Roughly bounded by Front, Summer, Kingman, Congress, and Washington Sts, Weymouth, 10001121

Worcester County

Poli's Palace Theater, 2 Southbridge St, Worcester, 10001122

MISSOURI

St. Louis Independent city

Oak Hill Historic District, Roughly bounded by Gustine St, Arsenal St, alley W of Portis Ave, Humphrey St, St. Louis, 10001120

NEW JERSEY

Union County

Summit Downtown Historic District, Roughly bounded by Springfield Ave, the Village Green, Summit Ave, and Waldron Ave, Summit City, 10001116

NEW YORK

Dutchess County

Franklin Delano Roosevelt High School, 23 Haviland Rd, Hyde Park, 10001125

Nassau County

Phipps, John S., Estate (Boundary Increase), 71 Old Westbury Rd, Old Westbury, 10001124

Onondaga County

Carley Onondaga Site, Address Restricted, Pompey, 10001127

Indian Castle Village Site, Address Restricted, Manlius, 10001126

VIRGINIA

Bland County

Wolf Creek Bridge, Old SR 61-Wolf Creek Rd, Rocky Gap, 10001114

Southampton County

Rochelle—Prince House, 22371 Main St, Courtland, 10001115

[FR Doc. 2010-32050 Filed 12-21-10; 8:45 am]

BILLING CODE 4312-51-P